INTERNATIONAL TRADE COMMISSION

[Investigation Nos. 731-TA-929-931 (Fourth Review)]

Silicomanganese From India, Kazakhstan, and Venezuela Determinations

On the basis of the record ¹ developed in the subject five-year reviews, the United States International Trade Commission (“Commission”) determines, pursuant to the Tariff Act of 1930 (“the Act”), that revocation of the antidumping duty orders on silicomanganese from India, Kazakhstan, and Venezuela would be likely to lead to continuation or recurrence of material injury to an industry in the United States within a reasonably foreseeable time.

¹ The record is defined in § 207.2(f) of the Commission's Rules of Practice and Procedure (19 CFR 207.2(f)).

Background

The Commission instituted these reviews on May 1, 2024 (89 FR 35247) and determined on August 5, 2024, that it would conduct expedited reviews (89 FR 77542, September 23, 2024).

The Commission made these determinations pursuant to section 751(c) of the Act (19 U.S.C. 1675(c)). It completed and filed its determinations in these reviews on December 4, 2024. The views of the Commission are contained in USITC Publication 5567 (December 2024), entitled Silicomanganese from India, Kazakhstan, and Venezuela: Investigation Nos. 731-TA-929-931 (Fourth Review).

By order of the Commission.
Issued: December 5, 2024.
Lisa Barton,
Secretary to the Commission.

[FR Doc. 2024-28982 Filed 12-9-24; 8:45 am]

BILLING CODE 7020-02-P